DEPARTMENT OF TRANSPORTATION

Pipeline and Hazardous Materials Safety Administration

49 CFR Parts 192 and 195

[Docket No. PHMSA-2007-27954; Amdt. Nos. 192-112 and 195-93]

RIN 2137-AE28

Pipeline Safety: Control Room Management/Human Factors, Correction

AGENCY: Pipeline and Hazardous Materials Safety Administration (PHMSA); DOT.

ACTION: Final rule; correction.

SUMMARY: PHMSA is correcting a Final Rule that appeared in the Federal Register on December 3, 2009. That final rule amended the Federal Pipeline Safety Regulations to address human factors and other aspects of control room management for pipelines where controllers use supervisory control and data acquisition (SCADA) systems, but contained errors regarding certain dates, both in the preamble and the amendments. This document corrects those errors.

DATES: Effective Date: February 3, 2010. Applicability Date: This correction is applicable beginning February 1, 2010.

FOR FURTHER INFORMATION CONTACT: For technical information contact Byron Coy at (609) 989-2180 or by e-mail at Byron.Coy@dot.gov. For legal information contact Benjamin Fred at (202) 366-4400 or by e-mail at Benjamin.Fred@dot.gov. All materials in the docket may be accessed electronically at http://www.regulations.gov. General information about PHMSA may be found at http://phmsa.dot.gov.

SUPPLEMENTARY INFORMATION: On December 3, 2009, PHMSA published a final rule in the Federal Register (74 FR 63310) entitled “Pipeline Safety: Control Room Management/Human Factors.” This final rule contained several errors regarding certain compliance dates. The final rule became effective on February 1, 2010, and the corrected dates detailed in this final rule correction are applicable as of February 1, 2010.

On page 63311 of the preamble to the December 3 rule, in the first column in the DATES section, the compliance date is corrected to read “Compliance Date: An operator must develop control room management procedures by August 1, 2011, and implement the procedures by February 1, 2013.”

Therefore, in accordance with the reasons stated in the preamble, PHMSA amends 49 CFR part 192 by making the following correcting amendments:

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, and 60118; and 49 CFR 1.53.

§ 192.631 [Amended]

2. In paragraph (a)(2), in the second sentence, remove the phrase “implement the procedures no later than February 1, 2012” and add the phrase “implement the procedures no later than February 1, 2013” in its place.

§ 195.446 [Amended]

3. In paragraph (a), in the last sentence, remove the phrase “implement the procedures no later than February 1, 2012”, and add the phrase “implement the procedures no later than February 1, 2013” in its place.

Issued in Washington, DC, on January 28, 2010.
Cynthia L. Quarterman,
Administrator.

[FR Doc. 2010-2190 Filed 2-2-10; 8:45 am]

BILLING CODE 4910-60-P